DEPARTMENT OF THE INTERIOR

Fish and Wildlife Service

50 CFR Part 17

RIN 1018-AG29

Endangered and Threatened Wildlife and Plants; Reopening of Comment Period on Proposed Critical Habitat for the Mexican Spotted Owl; Availability of Draft Economic Analysis and Draft Environmental Assessment

AGENCY: Fish and Wildlife Service, Interior.

ACTION: Proposed rule; reopening of comment period, notice of availability.

SUMMARY: We, the U.S. Fish and Wildlife Service, announce the availability of the draft Economic Analysis and draft Environmental Assessment for the proposal to designate critical habitat for the Mexican spotted owl (Strix occidentalis lucida) under the Endangered Species Act of 1973, as amended. We are also reopening the public comment period for the proposal. The new comment period will allow all interested parties to submit comments on the draft Economic Analysis, draft Environmental Assessment, and any other aspect of the proposed designation.

DATES: The comment period for this proposal, which originally closed on September 19, 2000, is reopened and now closes on November 20, 2000. Comments on the draft Economic Analysis, draft Environmental Assessment, and any other aspect of the proposed designation must be received by the closing date.

ADDRESSES: If you wish to comment, you may submit your comments and materials to the Field Supervisor, U.S. Fish and Wildlife Service, New Mexico Ecological Services Field Office, 2105 Osuna NE, Albuquerque, New Mexico, 87113. Copies of the draft Economic Analysis and draft Environmental Assessment are available from the aforementioned address, or over the internet at http://ifw2es.fws.gov/library/. Comments and materials received will be available for public inspection, by appointment, during normal business hours at the above Fish and Wildlife Service address.

FOR FURTHER INFORMATION CONTACT: Joy Nicholopoulos, Field Supervisor, New Mexico Ecological Services Field Office, at the above address; telephone 505/346-2525, facsimile 505/346-2542.

SUPPLEMENTARY INFORMATION:

Background

On July 21, 2000, we published in the Federal Register a proposed rule to designate critical habitat for the Mexican spotted owl (65 FR 45336). The comment period for the proposed designation closed on September 19, 2000. Section 4(b)(2) of the Endangered Species Act requires that we designate or revise critical habitat based upon the best scientific and commercial data available and after taking into consideration the economic impact, and any other relevant impact, of specifying any particular area as critical habitat. We may exclude an area from critical habitat if we determine that the benefits of excluding the area outweigh the benefits of including the area as critical habitat, provided such exclusion will not result in the extinction of the species. Consequently, we have prepared a draft economic analysis concerning the proposed critical habitat designation, which is available for review and comment at the above Internet and mailing addresses.

Approximately 5.5 million hectares (13.5 million acres) of land fall within the boundaries of the proposed critical habitat in Arizona, Colorado, New Mexico, and Utah. Proposed critical habitat is primarily composed of Federal lands. If this proposal is made final, section 7 of the Act would prohibit destruction or adverse modification of critical habitat by any activity funded, authorized, or carried out by any Federal agency.

Public Comments Solicited

We solicit comments on the draft Economic Analysis described in this notice, the draft Environmental Assessment, and any other aspect of the proposed designation of critical habitat for the Mexican spotted owl. The comment period is extended to November 20, 2000. Written comments may be submitted to the Field Supervisor at the above address. Our final determination on the proposed critical habitat will take into consideration comments and any additional information received by the date specified above. All previous comments and information submitted during the comment period need not be resubmitted.

Author

The primary authors of this notice are the New Mexico Field Office staff (see ADDRESSES section).

Authority: The authority for this action is the Endangered Species Act of 1973 (16 U.S.C. 1531 et seq.).

Nancy M. Kaufman,
Regional Director, Region 2.

[FR Doc. 00-26976 Filed 10-19-00; 8:45 am]

BILLING CODE 4310-55-U